DEPARTMENT OF TRANSPORTATION

Federal Aviation Administration

Advisory Circular 23-17A, Systems and Equipment Guide for Certification of Part 23 Airplanes

AGENCY: Federal Aviation Administration (FAA), DOT.

ACTION: Notice of issuance and availability.

SUMMARY: Advisory Circular (AC) 23-17A, Systems and Equipment Guide for Certification of Part 23 Airplanes provides information and guidance concerning acceptable means, but not the only means of compliance with Title 14 of the Code of Federal Regulations (14 CFR) part 23, subpart D from 23.671 and subpart F, applicable to the systems and equipment installation in normal, utility, acrobatic, and commuter category airplanes. The AC consolidates existing policy documents, and certain AC's that cover specific paragraphs of the regulations, into a single document and adds new guidance. Material in the AC is neither mandatory nor regulatory in nature and does not constitute a regulation.

DATES: AC 23-17A was issued by the Small Airplane Directorate, Aircraft Certification Service, on June 27, 2002.

How to Order: A copy of AC 23-17A may be purchased from the Superintendent of Documents, Post Office Box 371954, Pittsburgh, PA 15250-7954, or from any of the Government Printing Offices located in major cities throughout the United States. Identify the publication as AC 23-17A, Systems and Equipment Guide for Certification of Part 23 Airplanes, Stock Number 050-007-01332-9. The cost is $34.00 per copy for orders mailed within the U.S. and $44.50 for orders mailed outside of the U.S. Send a check or money order, made payable to Superintendent of Documents, with your request. No c.o.d. orders are accepted. Also, the AC is available on the internet either at http://www.faa.gov/certification/aircraft/small_airplane_directorate_advisory.htm or at http://www. faa. gov/certification/ aircraft/ air_index.htm, then click on “Advisory Circulars” in the left hand frame.

FOR FURTHER INFORMATION CONTACT: Ms. Pat Nininger, Standards Office, Small Airplane Directorate, Aircraft Certification Service, Kansas City, Missouri 64106, telephone (816) 329-4129, fax (816) 329-4090.

Issued in Kansas City, Missouri, on August 28, 2002.
David R. Showers,
Acting Manager, Small Airplane Directorate, Aircraft Certification Service.

[FR Doc. 02-23615 Filed 9-16-02; 8:45 am]

BILLING CODE 4910-13-P